DEPARTMENT OF COMMERCE

Bureau of Industry and Security

15 CFR Part 738

[Docket No. 040614182-4182-01]

RIN 0694-AD11

Revisions to the Export Administration Regulations To Remove Certain Regional Stability and Crime Control License Requirements to New North Atlantic Treaty Organization (NATO) Member Countries

Correction

In rule document 04-14625 beginning on page 36009 in the issue of June 28, 2004, make the following correction:

PART 738—[CORRECTED]

On page 36010 after amendatory instruction 2., Supplement No. 1 to Part 738 is corrected in part to read as follows:

Commerce Country Chart—Reason for Control
Countries | Chemical & biologival weapons: CB 1 | Chemical & biologival weapons: CB 2 | Chemical & biologival weapons: CB 3 | Nuclear nonproliferation: NP 1 | Nuclear nonproliferation: NP 2 | National security: NS 1 | National security: NS 2 | Missile tech: MT 1 | Regional stability: RS 1 | Regional stability: RS 2 | Firearms convention: FC 1 | Crime control: CC 1 | Crime control: CC 2 | Crime control: CC 3 | Anti- terrorism: AT 1 | Anti- terrorism: AT 2
* * * * * * *
Bulgaria | X |  |  |  |  | X | X | X | X |  |  |  |  |  |  |
* * * * * * *
Latvia | X | X |  |  |  | X | X | X | X |  |  |  |  |  |  |
* * * * * * *

[FR Doc. C4-14625 Filed 7-9-04; 8:45 am]

BILLING CODE 1505-01-D